DEPARTMENT OF ENERGY

Federal Energy Regulatory Commission

[Docket No. RD17-1-000]

Commission Information Collection Activities (FERC-725R); Comment Request

AGENCY: Federal Energy Regulatory Commission.

ACTION: Notice of information collection and request for comments.

SUMMARY: In compliance with the requirements of the Paperwork Reduction Act of 1995, the Federal Energy Regulatory Commission (Commission or FERC) is soliciting public comment on the information collection FERC-725R (Mandatory Reliability Standards: BAL Reliability Standards) which will be submitted to the Office of Management and Budget (OMB) for review of the information collection requirements.

DATES: Comments on the collection of information are due by April 10, 2017.

ADDRESSES: You may submit comments (identified by Docket No. RD17-1-000) by the following methods:

• eFiling at Commission's Web site: http://www.ferc.gov/docs-filing/efiling.asp.

• Mail/Hand Delivery/Courier: Federal Energy Regulatory Commission, Secretary of the Commission, 888 First Street NE., Washington, DC 20426.

Instructions: All submissions must be formatted and filed in accordance with submission guidelines at: http://www.ferc.gov/help/submission-guide.asp. For user assistance contact FERC Online Support by email at ferconlinesupport@ferc.gov, or by phone at: (866) 208-3676 (toll-free), or (202) 502-8659 for TTY.

Docket: Users interested in receiving automatic notification of activity in this docket or in viewing/downloading comments and issuances in this docket may do so at http://www.ferc.gov/docs-filing/docs-filing.asp.

FOR FURTHER INFORMATION CONTACT: Ellen Brown may be reached by email at DataClearance@FERC.gov, by telephone at (202) 502-8663, and by fax at (202) 273-0873.

SUPPLEMENTARY INFORMATION: Title: FERC-725R, Mandatory Reliability Standards: BAL Reliability Standards.

OMB Control No.: 1902-0268.

Type of Request: Three-year approval of FERC-725R information collection requirement, as modified.

Abstract: On November 10, 2016, the North American Electric Reliability Corporation (NERC) filed a petition for Commission approval of retirement, pursuant to section 215(d)(1) of the Federal Power Act (FPA) and Section 39.5 of the Commission's regulations, of currently-effective Reliability Standard BAL-004-0 (Time Error Correction). NERC explains that since Reliability Standard BAL-004-0 became effective, improvements have been made to mandatory Reliability Standards (such as the development of Reliability Standards BAL-003-1.1 and BAL-001-2 and the Interconnection Reliability Operations and Coordination (IRO) Standards) that help ensure continued adherence to frequency approximating 60 Hertz over long-term averages and make Reliability Standard BAL-004-0 redundant.

Type of Respondents: Public utilities.

Estimate of Annual Burden ¹: The Commission estimates the reduction (due to the retirement of Reliability Standard BAL-004-0) in the annual public reporting burden for the information collection as follows:

¹ Burden is defined as the total time, effort, or financial resources expended by persons to generate, maintain, retain, or disclose or provide information to or for a Federal agency. For further explanation of what is included in the information collection burden, refer to 5 Code of Federal Regulations 1320.3.

FERC 725R, reductions due to RD17-1-000 | Number of respondents ² | Number of responses per respondent | Total number of responses | Average burden hours & cost per response ³ | Annual burden hours & total annual cost
| (1) | (2) | (1) × (2) = (3) | (4) | (3) × (4) = (5)
Retirement of current standard BAL-004-0 currently in (FERC-725R) | BA 99; RC 11 | −1 | −110 | (Eng.) 2 hrs. ($129); (R.K.) 1 hr. ($38) | −330 hrs. (−220 Eng., −110 R.K.); −$18,370 (−$14,190 Eng., −$4,180 R.K.)
TOTAL REDUCTION (Rounded) |  |  | −110 hrs. |  | −110 −$18,370

Total annual burden and cost will be reduced by 110 hours and $18,370.

² The estimated number of respondents is based on the NERC compliance registry as of December 12, 2016. According to the NERC compliance registry, there are 99 U.S. balancing authorities (BA) and 11 reliability coordinators (RC).

³ The estimates for cost per response are derived using the following formula: Burden Hours per Response * $/hour = Cost per Response. The $64.29/hour figure for an engineer and the $37.75/hour figure for a record clerk (rounded to $38.00) are based on the average salary plus benefits data from the Bureau of Labor Statistics. (https://www.bls.gov/oes/current/naics2_22.htm), May 2015, Section 22, Utilities. In the burden table, engineering is abbreviated as “Eng.” and record keeping is abbreviated as “R.K.”.

Comments: Comments are invited on: (1) Whether the collection of information are necessary for the proper performance of the functions of the Commission, including whether the information will have practical utility; (2) the accuracy of the agency's estimates of the burden and cost of the collection of information, including the validity of the methodology and assumptions used; (3) ways to enhance the quality, utility and clarity of the information collection; and (4) ways to minimize the burden of the collection of information on those who are to respond, including the use of automated collection techniques or other forms of information technology.

Dated: February 1, 2017.
Kimberly D. Bose,
Secretary.

[FR Doc. 2017-02448 Filed 2-6-17; 8:45 am]

BILLING CODE 6717-01-P